ENVIRONMENTAL PROTECTION AGENCY

[FRL-7252-5]

Proposed Administrative Settlement Under the Comprehensive Environmental Response, Compensation and Liability Act; Glen Dale TCE Site

AGENCY: Environmental Protection Agency.

ACTION: Notice; request for public comment.

SUMMARY: In accordance with section 122(i)(1) of CERCLA, 42 U.S.C. 9622(i)(1), notice is hereby given of a proposed administrative settlement concerning the Glen Dale TCE Site, Glen Dale, Marshall County, West Virginia. The administrative settlement was signed by the Regional Administrator of the Environmental Protection Agency (EPA), Region III, on July 22, 2002, and is subject to review by the public pursuant to this document.

The Environmental Protection Agency is proposing to enter into a settlement pursuant to section 122(h) of the Comprehensive Environmental Response, Compensation and Liability Act of 1980, as amended (CERCLA), 42 U.S.C. 9622(h). The proposed settlement resolves EPA's claim for past response costs under section 107 of CERCLA, 42 U.S.C. 9607 against Rembar LLC for response costs incurred at the Glen Dale TCE Superfund Site, Glen Dale, Marshall County, West Virginia. The proposed settlement requires Rembar LLC to pay $15,000 to the EPA Hazardous Substance Fund.

Rembar LLC, as the Settling Party, has executed binding certifications of its consent to participate in this settlement. Rembar LLC, has agreed to pay $15,000 subject to the contingency that EPA may elect not to complete the settlement based on matters brought to its attention during the public comment period established by this notice.

For thirty (30) days following the date of publication of this notice, EPA will receive written comments relating to the proposed settlement. EPA will consider all comments received and may withdraw or withhold consent to the proposed settlement if such comments disclose facts or considerations which indicate that the proposed settlement is inappropriate, improper, or inadequate. EPA's response to any written comments received will be available for public inspection at the United States Environmental Protection Agency, Region III, 1650 Arch Street, Philadelphia, PA 19103.

DATES: Comments must be submitted on or before August 30, 2002.

ADDRESSES: Comments should be addressed to the Docket Clerk, United States Environmental Protection Agency, Region III, 1650 Arch Street, Philadelphia, Pennsylvania, 19103, and should reference the Glen Dale TCE Site, Glen Dale, West Virginia, U.S. EPA Docket No. CERCLA 03-2002-0192-DC. The proposed settlement agreement is available for public inspection at the United States Environmental Protection Agency, Region III, 1650 Arch Street, Philadelphia, Pennsylvania, 19103. A copy of the proposed settlement agreement can be obtained from Joan Johnson, Acting Regional Docket Clerk (3RC00), United States Environmental Protection Agency, Region III, 1650 Arch Street, Philadelphia, Pennsylvania, 19103, telephone number (215) 814-2651.

FOR FURTHER INFORMATION CONTACT: Suzanne M. Parent, Senior Assistant Regional Counsel, United States Environmental Protection Agency, Office of Regional Counsel (3RC44), 1650 Arch Street, Philadelphia, Pennsylvania, 19103, telephone number (215) 814-2630.

Dated: July 22, 2002.
Donald S. Welsh,
Regional Administrator, U.S. EPA, Region III.

[FR Doc. 02-19321 Filed 7-30-02; 8:45 am]

BILLING CODE 6560-50-P